OFFICE OF SCIENCE AND TECHNOLOGY POLICY

Proposed Principles for Federal Support of Graduate and Postdoctoral Education and Training in Science and Engineering; Extension of Comment Period

AGENCY: Executive Office of the President, Office of Science and Technology Policy (OSTP).

ACTION: Extension of comment period.

SUMMARY: This document extends the comment period for “Proposed Principles for Federal Support of Graduate and Postdoctoral Education and Training in Science and Engineering” published in the Federal Register on November 16, 2005.

The proposed principles are intended to increase collaboration and consistency within the Federal agencies in support of graduate and postdoctoral education and training in science and engineering. Principles are:

• Federal Support of Graduate and Postdoctoral Education and Training Is a Critical Investment in the Future;

• The Federal Investment Portfolio Must Broadly Support Science and Engineering Disciplines;

• Graduate Students and Postdoctoral Scholars Must Receive Quality Education and Training;

• Federal Contributions toward Graduate and Postdoctoral Education and Training are Provided in Partnership with Academic and Other Non-Federal Institutions;

• Graduate Students and Postdoctoral Scholars Should Be Adequately Supported to Encourage Their Pursuit of Science and Engineering Careers; and

• Federal Agencies Should Collaborate in Areas of Common Interest.

Dates and Addresses: Date to receive comments has been extended to January 31, 2006. Electronic comments may be submitted to: MWeiss@ostp.eop.gov. Please include in the subject line the words “National Science and Technology Council (NSTC) Education and Workforce Development Comments.” Please put the full body of your comments in the text of the electronic message and as an attachment. Be certain to include your name, title, organization, postal address, telephone number, and e-mail address in the text of the message. A return message will acknowledge receipt of your comments.

FOR FURTHER INFORMATION CONTACT: For information regarding this Notice, please call Mark Weiss, Office of Science and Technology Policy, (202) 456-6129; e-mail MWeiss@ostp.eop.gov or fax (202) 456-6027.

SUPPLEMENTARY INFORMATION:

Invitation to Comment

On November 16, 2005 (70 FR 69563) The Office of Science and Technology Policy published a notice soliciting comments on the Proposed Principals for Federal Support of Graduate and Postgraduate Education and Training in Science and Engineering. That notice requested comments by January 16, 2006. This notice extends that comment period to January 31, 2006.

Input on any aspect of the proposed principles or the proposed process for interagency coordination is encouraged. The following questions indicate particular areas for comment:

(a) Are there topics or issues not addressed in the principles that should be? If so, please explain.

(b) Are there additional approaches or strategies to achieve the objectives and promote interagency collaboration? If so, please explain.

M. David Hodge,
Acting Assistant Director for Budget and Administration.

[FR Doc. 06-300 Filed 1-11-06; 8:45 am]

BILLING CODE 3710-W4-P